Memorandum of December 5, 2016

Steps for Increased Legal and Policy Transparency Concerning the United States Use of Military Force and Related National Security Operations

Memorandum for the Heads of Executive Departments and Agencies

Since my earliest days in office, I have emphasized the importance of transparency and my commitment to making as much information as possible available to the Congress and the public about the United States use of military force and related national security operations. Doing so, I believe, not only supports the process of democratic decision making, but also demonstrates the legitimacy and strengthens the sustainability of our operations while promoting mutual understanding with our allies and partners.

The United States has used military force and conducted related national security operations within legal and policy frameworks that are designed to ensure that such operations are lawful and effective and that they serve our interests and values. Consistent with my commitment to transparency, my Administration has provided to the public an unprecedented amount of information regarding these frameworks through speeches, public statements, reports, and other materials. We have attempted to explain, consistent with our national security and the proper functioning of the executive branch, when and why the United States conducts such operations, the legal basis and policy parameters for such operations, and how such operations have unfolded, so that the American people can better understand them.

In addition to the efforts we have made to date, there is still more work that can be done to inform the public. Thus, consistent with my Administration's previous efforts, by this memorandum I am directing national security departments and agencies to take additional steps to share with the public further information relating to the legal and policy frameworks within which the United States uses military force and conducts related national security operations. Accordingly, I hereby direct as follows:

Section 1. Report. National security departments and agencies shall prepare for the President a formal report that describes key legal and policy frameworks that currently guide the United States use of military force and related national security operations, with a view toward the report being released to the public.

Sec. 2. Keeping the Public Informed. On no less than an annual basis, the National Security Council staff shall be asked to, as appropriate, coordinate a review and update of the report described in section 1 of this memorandum, provide any updated report to the President, and arrange for the report to be released to the public.

Sec. 3. Definitions. For the purposes of this memorandum:

“National security departments and agencies” include the Departments of State, the Treasury, Defense, Justice, and Homeland Security, the Office of the Director of National Intelligence, the Central Intelligence Agency, and such other agencies as the President may designate.

“Related national security operations” include operations deemed relevant and appropriate by national security departments and agencies for inclusion in the report described in section 1 of this memorandum, such as detention, transfer, and interrogation operations.

Sec. 4. Publication. The Secretary of State is hereby authorized and directed to publish this memorandum in the Federal Register.

THE WHITE HOUSE,

Washington, December 5, 2016

[FR Doc. 2016-31213

Filed 12-22-16; 8:45 am]

Billing code 4710-10-P